DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 67 FR 78474, dated 12/24/2002) as amended to reorganize the National Center for HIV, STD & TB Prevention.

Section C-B, Organization and Functions, is hereby amended as follows:

After the Surveillance Section (CK463), insert the following:

Global AIDS Program (CK6). (1) Provides financial and technical assistance to nations heavily affected by the HIV/AIDS epidemic; (2) provides U.S.-based (headquarters) and onsite (in-country) technical assistance and oversight for CDC financial assistance which is designed to (a) develops and implements programs on HIV/AIDS prevention and surveillance as well as medical care, support, and treatment for people living with HIV/AIDS and (b) strengths infrastructure to support prevention and care program through training, informatics, laboratory support, program evaluation, operational research, and other relevant activities; (3) serves as liaison to other divisions/offices within NCHSTP and other CIOs, USAID and other Federal agencies, UNAIDS, the World Health Organization (WHO), and other agencies of the United Nations involved in HIV/AIDS-related activities and programs; non-governmental agencies working at the international level, and health agencies of other countries; (4) serves as the primary disseminator of information from CDC about the global HIV/AIDS epidemic through health communications materials, scientific publications, and presentations.

Office of the Director (CK61). (1) Directs the activities of the Global AIDS Program (GAP); (2) provides leadership and guidance on policy development and interpretation, budget formulation, and program planning, development, management, operations, and evaluations; (3) provides GAP-wide administrative and management services including personnel, budgets, contracts, grants and cooperative agreements, interagency/reimbursable agreements, travel, facility management, and equipment in inventory and coordinates or ensures coordination with the appropriate NCHSTP or CDC staff offices; (4) develops and implements strategies and increases host government capacity to monitor and evaluate the process, impact, and outcome of GAP and other HIV prevention and care programs; (5) provides scientific and editorial review and clearance of manuscripts for publication, abstracts for presentation, protocols for Institutional Review Board (IRB) and human subjects review, and other scientific, programmatic, and informational materials; (6) responds to congressional and other official inquiries related to the GAP budget and financial assistance programs.

HIV/AIDS Care and Treatment Branch (CK62). (1) Provides technical assistance in developing comprehensive programs for the prevention, diagnosis, and treatment of HIV/AIDS, tuberculosis, and other opportunistic infections; (2) provides assistance in the development of policy and programs for appropriate use of antiretroviral drugs; (3) designs and assists in implementing home- and community-based models for HIV/AIDS care; (4) develops and assesses operational research protocols to improve the effectiveness and implementation of GAP treatment and care technical strategies; (5) reviews and analyzes findings of GAP-sponsored and other operational research to guide GAP programs and policies; (6) provides technical support to GAP headquarters and country programs in developing laboratory, clinical, and administrative capacities to prevent and treat HIV and AIDS-related conditions; (7) monitors the quality and impact of care programs for persons living with HIV/AIDS and their families; (8) assists in monitoring the training of health care workers to provide care, support, and treatment; (9) assists in monitoring the impact of HIV/AIDS of health care systems in GAP countries, including monitoring the clinical spectrum of disease, response to treatment, and emerging antiretroviral and antimicrobial resistance; (10) provides technical support in increasing access to an availability of home- and community-based care and access to antiretroviral, tuberculosis, and other drug programs that will extend life and enhance the quality of life for persons living with HIV/AIDS; (11) provides technical assistance to GAP country programs in recruiting safe blood (products) donors, quality testing blood bank management, appropriate use of blood and blood products, and prevention of severe anemia; (12) fosters the improvement of HIV prevention and counseling services through blood donor education, mobilization, and retention of safe blood donors.

Country Program Support Branch (CK63). (1) Serves as the focal point for communications and program and administrative support for all country HIV prevention programs; (2) provides a link between GAP country programs and GAP headquarters in Atlanta and supports and assists GAP country program staff in communications with other GAP programs around the world; (3) provides logistical and administrative support to GAP country programs for implementing at least 17 technical strategies under HIV/STD/TB prevention, AIDS treatment and care, and infrastructure development relevant to specific country programs and plans; (4) assists in the development, disbursement, and oversight of country budgets; (5) arranges for international travel and all policy and administrative issues relevant to the overseas assignment of CDC staff and their families; (6) develops operational research protocols to evaluate novel approaches to implementing GAP technical strategies within each program; (7) procures and inventories materials and equipment needed to support country plans; (8) develops plans and provides financial, technical, and administrative assistance for developing, implementing, and evaluating in-country HIV programs.

Surveillance and Infrastructure Development Branch (CK64). Develops, implements, and evaluates comprehensive systems for collecting, disseminating, and applying epidemiologic and hebavioral surveillance data to monitor trends in HIV, other sexually transmitted infections, and tuberculosis; (2) develops policies, systems, and programs and provides technical assistance to increase host government capacity to conduct quality laboratory testing for HIV, other sexually transmitted infections, and tuberculosis; (3) provides technical and other assistance to develop, maintain, and evaluate GAP and host government informatics systems; (4) develops, provides, and evaluates training activities in support of GAP technical strategies and assesses and improves the training capacity of host governments to support HIV prevention and care programs.

HIV Prevention Branch (CK65). (1) Supports GAP field sites in their collaborations with national and international partners to implement, improve, expand, sustain, and maximize effectiveness of HIV prevention programs; (2) provides technical assistance to GAP country programs in the development, implementation, and evaluation of model behavior changes interventions and programs to reduce risk-behaviors and enhance health-seeking behaviors; (3) provides technical assistance to GAP country programs to strengthen, expand, and make accessible programs to prevent, diagnose, and treat sexually transmitted infections and to prevent HIV infection among persons seeking treatment of sexually transmitted infections; (4) provides technical assistance to GAP country programs to implement, expand, monitor, and evaluate programs to provide antenatal services, decrease mother-to-child HIV transmission, and improve care and support of infected mothers and children; (5) provides technical assistance to GAP country programs on tailoring HIV prevention programs to meet the special needs of youth and drug-using populations; (6) provides technical assistance to GAP country programs to develop, expand, and evaluate voluntary HIV counseling and testing programs; (7) provides technical assistance for the development of strategies to maximize the impact of HIV prevention programs in GAP countries through public-private partnerships, national program expansion, and community mobilization.

Dated: February 2, 2003.
William H. Gimson,
Acting Director.

[FR Doc. 03-3440 Filed 2-11-03; 8:45 am]

BILLING CODE 4160-18-M